DEPARTMENT OF LABOR

Employment and Training Administration

[TA-W-57,244]

Alcatel, Inc., Plano, TX; Notice of Termination of Investigation

Pursuant to section 221 of the Trade Act of 1974, as amended, an investigation was initiated on May 24, 2005, in response to a petition filed by a state agency representative on behalf of workers of Alcatel, Inc., Plano, Texas.

The petitioner has requested that the petition be withdrawn. Consequently, the investigation has been terminated.

Signed in Washington, DC, this 14th day of July, 2005.
Linda G. Poole,
Certifying Officer, Division of Trade Adjustment Assistance.

[FR Doc. E5-4294 Filed 8-8-05; 8:45 am]

BILLING CODE 4510-30-P